DEPARTMENT OF THE INTERIOR

Bureau of Land Management

[LLCON00000 L10200000 DF0000.LXSS080C0000]

Notice of Public Meetings, Northwest Colorado Resource Advisory Council Meeting

AGENCY: Bureau of Land Management, Interior.

ACTION: Notice of public meeting.

SUMMARY: In accordance with the Federal Land Policy and Management Act and the Federal Advisory Committee Act of 1972, the U.S. Department of the Interior, Bureau of Land Management (BLM) Northwest Colorado Resource Advisory Council (RAC) will meet as indicated below.

DATES: The Northwest Colorado RAC has scheduled meetings February 19, June 4, August 20 and December 3, 2015, from 8 a.m. to 3 p.m., with public comment periods regarding matters on the agenda at 10 a.m. and 2 p.m. A specific agenda for each meeting will be available prior to the meetings at http://www.blm.gov/co/st/en/BLM_Resources/racs/nwrac.html.

ADDRESSES: The February 19 meeting will be held in the BLM Colorado River Valley Field Office, 2300 River Frontage Road, Silt, CO 81652; the June 4 meeting will be held at the Allington Inn of Kremmling, 215 West Central Avenue, Kremmling, CO 80459; the August 20 meeting will be held at the Rio Blanco Fairgrounds, 779 Sulphur Creek Road, Meeker, CO 81641; and the December 3 meeting will be held at the Springhill Suites, 236 Main Street, Grand Junction, CO 81501.

FOR FURTHER INFORMATION CONTACT: Chris Joyner, Public Affairs Specialist, Grand Junction Field Office, 2815 H Road, Grand Junction, CO 81506. Phone: (970) 244-3097. Email: cbjoyner@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Northwest Colorado RAC advises the Secretary of the Interior, through the Bureau of Land Management, on a variety of public land issues in northwestern Colorado.

Topics of discussion during Northwest Colorado RAC meetings may include management of the Greater Sage-Grouse, working group reports, recreation, fire management, land use planning, invasive species management, energy and minerals management, travel management, wilderness, wild horse herd management, land exchange proposals, cultural resource management, and other issues as appropriate. Subcommittees under this RAC may meet this year regarding travel management in the White River Field Office. Active subcommittees report to the Northwest Colorado RAC at each council meeting. RAC and subcommittee meetings are open to the public. More information is available at http://www.blm.gov/co/st/en/BLM_Resources/racs/nwrac.html. The public may present written comments to the RACs. Each formal RAC meeting will also have time, as identified above, allocated for hearing public comments. Depending on the number of persons wishing to comment and time available, the time for individual oral comments may be limited.

Ruth Welch,
State Director.

[FR Doc. 2014-30293 Filed 1-15-15; 8:45 am]

BILLING CODE P